DEPARTMENT OF ENERGY

Federal Energy Regulatory Commission

[Docket No. GT00-34-006]

Dauphin Island Gathering Partners; Notice of Proposed Changes in FERC Gas Tariff

October 4, 2001.

Take notice that on October 1, 2001, Dauphin Island Gathering Partners (DIGP) tendered for filing as part of its FERC Gas Tariff, First Revised Volume No. 1, the tariff sheet listed below to become effective October 1, 2001. DIGP states that this tariff sheet reflects changes to delivery points and Maximum Daily Quantities (MDQ's).

Seventh Revised Sheet No. 9

DIGP states that a copy of this filing is available for public inspection during regular business hours at DIGP's office at 370 17th Street, Suite 900, Denver, Colorado 80202.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25492 Filed 10-10-01; 8:45 am]

BILLING CODE 6717-01-P